DEPARTMENT OF LABOR

Office of the Secretary

Procedures for Appointment of Individuals to Department of Labor Advisory Committees

Subject: Secretary's Order 04—2018

1. Purpose. To provide for transparent and consistent processes by which the Secretary of Labor and/or the designee of the Secretary of Labor shall select and appoint individuals to advisory committees ¹ within the Department of Labor.

¹ “Committee” refers to any Federal Advisory Committee Act (FACA) advisory committee, committee, board, task force, or working group to which the Secretary of Labor or the designee of the Secretary appoints individuals. This Order does not apply to internal committees, boards, task forces, or working groups, or to purely interagency committees, boards, task forces, or working groups.

2. Authorities and Directives Affected.

A. Authorities. This Order is issued pursuant to the following authorities:

i. 29 U.S.C. 551 et seq.;

ii. 5 U.S.C. 301-02;

iii. 5 U.S.C. app. 2, 1-15.

B. Directives Affected. This Order does not affect the authorities and responsibilities assigned by any other Secretary's Order.

3. Background. The Secretary and/or Secretary's designee has the authority and responsibility to appoint members of advisory committees that provide information, expertise, and recommendations to DOL agencies. These appointments should be made through a transparent and consistent process. Accordingly, this Order establishes procedures by which these appointments shall be made.

4. Responsibilities.

A. The Assistant Secretary for Administration and Management, in consultation with the Deputy Secretary, is assigned responsibility for issuing written guidance, as necessary, to implement this Order.

B. The Solicitor of Labor is responsible for providing legal advice to DOL on all matters arising in the implementation and administration of this Order.

5. Procedure. The following procedures shall apply to the selection and appointment of individuals to Department advisory committees for which the Secretary or the Secretary's designee is responsible:

A. A notice of vacancy and solicitation of applications shall be posted in the Federal Register and on the relevant committee or agency website. The vacancy shall be held open for a minimum of thirty days, during which applications shall be accepted. The notice shall specify: The name of the committee; the minimum requirements for committee membership, including specialized knowledge, experience, or other relevant criteria as mandated by the relevant statute, committee charter, or as determined by the agency administering the committee; the duration, if any, of the appointment; the minimum criteria for appointment; the documentation an applicant must submit for consideration; the deadline by which such documentation must be submitted; and the email address and/or physical address where documentation may be submitted.

B. Each application shall be directed to the relevant agency to be screened to determine whether the applicant has timely submitted all required documentation and meets the minimal qualifications for the position, including vetting the minimally qualified candidates for potential ethics concerns such as conflicts of interest in consultation with ethics counsel.

C. Qualified applications shall be reviewed by a panel established within the relevant agency. The members of each panel shall be selected by the head of the agency, and shall consist of six employees who understand advisory committees and their functions. The Department's Director, Human Resources Center, or her designee, shall be present for each meeting of the panel. The panel shall select candidates it considers best meet the criteria for a specific committee. The committee shall send its proposed selections to the head of the agency, who shall review and provide the agency's recommendations to the Secretary and Deputy Secretary.

D. For an advisory committee that requires the Secretary himself make appointments, the Secretary shall make each final decision and appointment, or may instead order another candidate search be completed.

E. For an advisory committee that permits a Secretary's designee to make appointments, the Secretary, at his discretion, may review the recommendations himself pursuant to Paragraph 5.D of this order; or he may permit his designee to make the final decisions and appointments, or instead order another candidate search be completed, consistent with requirements of the applicable statute.

6. Privacy. This Order is subject to the applicable laws, regulations, and procedures concerning the privacy of applicants to federal government advisory committees.

7. Exceptions; Administrative Matters. The requirements of this Order are intended to be general in nature, and accordingly shall be construed and implemented consistent with more specific requirements of any statute, Executive Order, or other legal authority governing the composition of a particular advisory committee. In the event of a conflict, the specific statute, Executive Order, or other legal authority shall govern. The requirements of this Order are in addition to internal administrative procedures regarding the appointment of individuals to advisory committees.

8. Redelegation of Authority. Except as otherwise provided by law, all of the authorities delegated in this Order may be redelegated in order to serve the purposes of this Order.

9. Date. This order is effective immediately.

Dated: June 1, 2018.
R. Alexander Acosta,
Secretary of Labor.

[FR Doc. 2018-16124 Filed 7-26-18; 8:45 am]

BILLING CODE 4510-04-P